FEDERAL RESERVE SYSTEM

Change in Bank Control Notices; Acquisitions of Shares of a Bank or Bank Holding Company

The notificants listed below have applied under the Change in Bank Control Act (Act) (12 U.S.C. 1817(j)) and 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than May 21, 2021.

A. Federal Reserve Bank of Kansas City (Jeffrey Imgarten, Assistant Vice President) 1 Memorial Drive, Kansas City, Missouri 64198-0001:

1. Christopher D. Stull and Andrea L. Stull, both of Timnath, Colorado; Douglas L. Hadden and Julie B. Hadden, both of Bridgeport, Nebraska; and Colton E. Stull and Jayden J. Stull, both of Hickman, Nebraska; to join the Stull Family Group, a group acting in concert, and acquire voting shares of Farmers State Bancshares, Inc., and thereby indirectly acquire voting shares of Farmers State Bank, both of Dodge, Nebraska. Also, the Richard A. Stull Trust, Richard A. Stull, as trustee, the Ogard Family Revocable Trust, Monty C. Ogard and Judy K. Ogard, each as trustees, all of Bridgeport, Nebraska; and the Louis Marcuzzo Revocable Trust, Louis J. Marcuzzo, as trustee, both of Omaha, Nebraska; to join the Stull Family Group, a group acting in concert, and retain voting shares of Farmers State Bancshares, Inc. and thereby indirectly retain voting shares of Farmers State Bank.

Board of Governors of the Federal Reserve System, May 3, 2021.
Michele Taylor Fennell,
Deputy Associate Secretary of the Board.

[FR Doc. 2021-09588 Filed 5-5-21; 8:45 am]

BILLING CODE P